DEPARTMENT OF TRANSPORTATION

Surface Transportation Board

[STB Docket No. AB-57 (Sub-No. 52X)]

Soo Line Railroad Company—Abandonment Exemption—in Hennepin County, MN

On June 21, 2001, Soo Line Railroad Company, doing business as Canadian Pacific Railway (Soo Line) filed with the Surface Transportation Board (Board) a petition under 49 U.S.C. 10502 for exemption from the provisions of 49 U.S.C. 10903 to abandon a 4.7+/− mile line of railroad, the 29th Street Corridor, also known as the “Depression Line”, between milepost 428.3+/−(TC&W switch turnout west of France Avenue) and milepost 423.6+/−(near the eastern edge of Cedar Avenue), in Minneapolis, Hennepin County, MN. The line traverses U.S. Postal Service Zip Codes 55406, 55407, 55408, and 55416. There are no stations on the line.

The line does not contain federally granted rights-of-way. Any documentation in Soo Line's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by October 9, 2001.¹

¹ Soo Line seeks expedited consideration of the petition because it is currently paying Hennepin County Regional Rail Authority (Authority), the owner of the majority of the underlying real estate, an easement fee annually of $44,000, or nearly $850.00 per week, which payments petitioner is obligated to make until abandonment authority has been obtained and the track has been removed from the corridor. Soo Line adds that it wants to reuse the line's rail on other parts of its system and asserts that the Authority is seeking to obtain possession of the corridor as soon as possible to begin work on a trail extension on a portion of the line. Petitioner asks that the Board grant abandonment authority by July 15, 2001. As petitioner is aware, the Board must comply with procedural and substantial requirements, including environmental and historic preservation requirements, that preclude honoring such a request. The Board will act in compliance with statutory and regulatory requirements as expeditiously as possible.

Any offer of financial assistance (OFA) under 49 CFR 1152.27(b)(2) will be due no later than 10 days after service of a decision granting the petition for exemption. Each OFA must be accompanied by a $1,000 filing fee. See 49 CFR 1002.2(f)(25).

All interested persons should be aware that, following abandonment of rail service and salvage of the line, the line may be suitable for other public use, including interim trail use. Any request for a public use condition under 49 CFR 1152.27 or for trail use/rail banking under 49 CFR 1152.29 will be due no later than July 31, 2001. Each trail use request must be accompanied by a $150 filing fee. See 49 CFR 1002.2(f)(27).

All filings in response to this notice must refer to STB Docket No. AB-57 (Sub-No. 52X) and must be sent to: (1) Surface Transportation Board, Office of the Secretary, Case Control Unit, 1925 K Street, NW., Washington, DC 20423-0001; and (2) Diane P. Gerth, 150 South 5th Street, Suite 2300, Minneapolis, MN 55402. Replies to the petition are due on or before July 31, 2001.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (EIS). EAs in these abandonment proceedings normally will be made available within 60 days of the filing of the petition. The deadline for submission of comments on the EA will generally be within 30 days of its service.

Board decisions and notices are available on our website at “WWW.STB.DOT.GOV.”

Decided: June 29, 2001.
By the Board, David M. Konschnik, Director, Office of Proceedings.
Vernon A. Williams,
Secretary.

[FR Doc. 01-17079 Filed 7-9-01; 8:45 am]

BILLING CODE 4915-00-P